DEPARTMENT OF JUSTICE

Notice of Lodging of Consent Decree for Natural Resource Damages Under CERCLA

Notice is hereby given that on December 28, 2000, a proposed consent decree in United States v. Lone Mountain Processing, Inc., Civil Action No. 2:00CV00200, was lodged with the United States District Court for the Western District of Virginia.

The consent decree settles claims against Lone Mountain Processing, Inc., under section 107(f) of the Comprehensive Environmental Response, Compensation and Liability Act, as amended, 42 U.S.C. 9607. The releases that give rise to the claims are from coal slurry spills from a coal processing plant owned by Lone Mountain in Lee County, Virginia, and took place on or about August 9, 1996, and October 24, 1996. The releases caused injury to natural resources in the Powell River Wasteshed and injured species and habitat for which the Department of Interior has trusteeship. The Consent Decree settles the natural resource damage claim in exchange for a payment by Lone Mountain of $2,450,000.

The Department of Justice will receive for a period of thirty (30) days from the date of this publication comments relating to the consent decrees. Comments should be addressed to the Assistant Attorney General of the Environment and Natural Resources Division, Department of Justice, Washington, DC 20530, and should refer to United States v. Lone Mountain Processing, Inc., D.J. Ref. 90-5-1-1-06615.

The consent decree may be obtained by mail from the Department of Justice Consent Decree Library, PO Box 7611, Washington, DC 20044-7611. In requesting copies from the Consent Decree Library, please enclose a check in the amount of $3.50 for the consent decree payable to the Consent Decree Library.

Bruce S. Gelber,
Chief, Environmental Enforcement Section, Environment and Natural Resources Division.

[FR Doc. 01-921 Filed 1-10-01; 8:45 am]

BILLING CODE 4410-15-M